DEPARTMENT OF JUSTICE

Notice of Lodging of Consent Decree Pursuant to the Comprehensive Environmental Response, Compensation and Liability Act

In accordance with the policy of the Department of Justice, notice is hereby given that a proposed consent decree in United States v. American Allied Additivies, Inc., et al., Civ. No. 1:00CV1014, was lodged with the United States District Court for the Northern District of Ohio, on December 20, 2000. That action was brought against defendants pursuant to the Comprehensive Environmental Response, Compensation and Liability Act (CERCLA) for, inter alia, payment of past costs incurred, and future costs to be incurred, by the United States at the American Allied Additives Superfund Site in Cleveland, Ohio. This decree requires seven defendants to pay $23,927.00 in satisfaction of the United States' claims against them for response costs incurred and to be incurred in connection with the site. The United States is continuing litigation and settlement efforts against other defendants in the lawsuit.

The Department of Justice will receive comments relating to the proposed consent decree for a period of 30 days from the date of this publication. Comments should be addressed to the Assistant Attorney General of the Environment and Natural Resources Division, Department of Justice, Washington, DC 20530. All comments should refer to United States v. American Allied Additives, Inc., et al., D. J. Ref. 90-11-2-1318.

The proposed consent decree may be examined at the office of the United States Attorney for the Northern District of Ohio, 1800 Bank One Center, 600 Superior Avenue, Cleveland, Ohio 44114-2600; and at the Region V office of the Environmental Protection Agency, 777 West Jackson Boulevard, Chicago, Illinois 60604-3590. A copy of the proposed consent decree may be obtained in person or by mail from the Department of Justice Consent Decree Library, P.O. Box 7611, Washington, DC 20044-7611. In requesting a copy, plese enclose a check in the amount of $8.25 (25 cents per page reproduction costs) payable to the Consent Decree Library. When requesting a copy, plese refer to United States v. American Allied Additives, Inc., et al., D.J. Ref. 90-11-2-1318.

Bruce S. Gelber,
Chief, Environmental Enforcement Section, Environment and Natural Resources Division.

[FR Doc. 01-922 Filed 1-10-01; 8:45 am]

BILLING CODE 4410-15-M